DEPARTMENT OF COMMERCE

Bureau of Industry and Security

15 CFR Parts 736 and 744

[Docket No. 060531141-6141-01]

RIN: 0694-AD76

Correction to General Order Concerning Mayrow General Trading and Related Entities

AGENCY: Bureau of Industry and Security, Commerce.

ACTION: Final rule; Correction

SUMMARY: The Bureau of Industry and Security is correcting a final rule that appeared in the Federal Register on June 5, 2006 (71 FR 32272). This rule corrects an inadvertent error in the telephone number listed in the For Further Information Contact: section of the preamble.

FOR FURTHER INFORMATION CONTACT: [Corrected] Michael D. Turner, Director, Office of Export Enforcement, Bureau of Industry and Security, Department of Commerce, P.O. Box 273, Washington, DC 20044; Phone: (202) 482-1208, x3; E-mail: rpd2@bis.doc.gov; Fax: (202) 482-0964.

Eileen Albanese,
Director, Office of Export Services.

[FR Doc. E6-8961 Filed 6-7-06; 8:45 am]

BILLING CODE 3510-33-P